DEPARTMENT OF HEALTH AND HUMAN SERVICES

National Institutes of Health

Amended Notice

The purpose of this notice is to inform the public that the National Institutes of Health (NIH) is cancelling the May 5, 2009 meeting of the NIH Blue Ribbon Panel to Advise on the Risk Assessment of the National Emerging Infectious Diseases Laboratories at Boston University Medical Center. The announcement for the May 5, 2009 meeting was previously published in the Federal Register on April 3, 2009 (74 FR 15296).

The meeting will be rescheduled and the new date for the meeting will be announced and published in the Federal Register.

Dated: April 14, 2009.
Kelly Fennington,
Special Assistant to the Acting Director, Office of Science Policy, National Institutes of Health.

[FR Doc. E9-9037 Filed 4-17-09; 8:45 am]

BILLING CODE 4140-01-P